DEPARTMENT OF HEALTH AND HUMAN SERVICES

National Institutes of Health

Proposed Collection; 60-day Comment Request: Outcomes Evaluation of the National Cancer Institute (NCI) Cancer Prevention Fellowship Program (CPFP)

SUMMARY: In compliance with the requirement of Section 3506(c)(2)(A) of the Paperwork Reduction Act of 1995, for opportunity for public comment on proposed data collection projects, National Cancer Institute (NCI), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance quality, utility, and clarity of the information to be collected; and (4) Ways to minimize the burden of the collection of information on those who are to respond, including the use of appropriate automated, electronic, mechanical, or other technological collection techniques or other forms of information technology.

To Submit Comments and for Further Information: To obtain a copy of the data collection plans and instruments, contact: Jessica Faupel-Badger, Ph.D., MPH, Cancer Prevention Fellowship Program, National Cancer Institute, 9609 Medical Center Drive, Room 2W136 MSC 9712, Bethesda, Maryland 20892-9712 or call non-toll-free number 240-276-5650 or Email your request, including your address to: badgerje@mail.nih.gov. Formal requests for additional plans and instruments must be requested in writing.

DATES: Comments Due Date: Comments regarding this information collection are best assured of having their full effect if received within 60 days of the date of this publication.

Proposed Collection: Outcomes Evaluation of the National Cancer Institute Cancer Prevention Fellowship Program (CPFP), 0925-NEW, National Cancer Institute (NCI), National Institutes of Health (NIH).

Need and Use of Information Collection: The National Cancer Institute's (NCI) Cancer Prevention Fellowship Program (CPFP) mission is to train early career scientists from diverse disciplines to become outstanding independent researchers and leaders. This postdoctoral program conducted on-site at NCI has been in existence for over 25 years and has approximately 200 alumni. The current study focuses on the implementation of a new survey instrument to capture career outcomes from CPFP alumni and two comparison groups, CPFP applicants and NCI F32 awardees. With the diversity of disciplines represented by CPFP alumni, the results of this evaluation will be of broad interest to the biomedical research training community.

OMB approval is requested for one year. There are no costs to respondents other than their time. The total estimated annualized burden hours are 299.

Estimated Annualized Burden Hours
Type of respondent | Number of respondents | Number of responses per respondent | Average burden per response (in hours) | Total annual burden hour
CPFP Alumni | 200 | 1 | 25/60 | 83
CPFP Applicants | 283 | 1 | 20/60 | 94
F32 Awardees | 367 | 1 | 20/60 | 122

Dated: August 5, 2013.
Vivian Horovitch-Kelley,
NCI Project Clearance Liaison, National Institutes of Health.

[FR Doc. 2013-19425 Filed 8-9-13; 8:45 am]

BILLING CODE 4140-01-P